DEPARTMENT OF DEFENSE

Defense Acquisition Regulations System

Early Engagement Opportunity: Implementation of the Coronavirus Aid, Relief, and Economic Security (CARES) Act

AGENCY: Defense Acquisition Regulations System, Department of Defense (DoD).

ACTION: Notice.

SUMMARY: DoD announces an early engagement opportunity regarding implementation of the Coronavirus Aid, Relief, and Economic Security Act within the acquisition regulations.

DATES: Early inputs should be submitted in writing via the Defense Acquisition Regulations System (DARS) website shown in the ADDRESSES section. The website will be updated when early inputs will no longer be accepted.

ADDRESSES: Submit early inputs via the DARS website at https://www.acq.osd.mil/dpap/dars/early_engagement.html.

FOR FURTHER INFORMATION CONTACT: Send early inputs via email to osd.dfars@mail.mil and reference “Early Engagement Opportunity: CARES Act” in the subject line. For further information contact Ms. Carrie Moore at (703) 717-3483.

SUPPLEMENTARY INFORMATION: DoD is providing an opportunity for the public to provide early inputs on implementation of Coronavirus Aid, Relief, and Economic Security (CARES) Act (Pub. L. 116-136) within the acquisition regulations. The public is invited to submit early inputs on sections of the CARES Act via the DARS website at https://www.acq.osd.mil/dpap/dars/early_engagement.html. The website will be updated when early inputs will no longer be accepted. Please note, this venue does not replace or circumvent the rulemaking process; DARS will engage in formal rulemaking, in accordance with 41 U.S.C. 1707, when it has been determined that rulemaking is required to implement a section of the CARES Act within the acquisition regulations.

Jennifer Lee Hawes,
Regulatory Control Officer, Defense Acquisition Regulations System.

[FR Doc. 2020-08056 Filed 4-21-20; 8:45 am]

BILLING CODE 5001-06-P